DEPARTMENT OF THE INTERIOR

Fish and Wildlife Service

[FWS-R4-ES-2018-N021; FXES11140400000-189-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given in ADDRESSES by May 11, 2018.

ADDRESSES: Reviewing Documents: Documents and other information submitted with the applications are available for review, subject to the requirements of the Privacy Act and Freedom of Information Act, by any party who submits a written request for a copy of such documents to the following office within 30 days of the date of publication of this notice (see DATES): U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: U.S. Fish and Wildlife Service's Regional Office (see above).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone) or 404-679-7081 (fax).

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities with listed species unless a Federal permit is issued that allows such activities. The ESA requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications
Permit application No. | Applicant | Species/Numbers | Location | Activity | Type of take | Permit action
TE 37490B-1 | Melissa Littrell, Lexington, KY | Gray bat (Myotis grisescens), Indiana bat (M. sodalis), northern long-eared bat (M. septentrionalis) | Alabama, Arkansas, Georgia, Illinois, Indiana, Kentucky, Mississippi, Missouri, North Carolina, Ohio, South Carolina, Tennessee, Virginia, and West Virginia | Presence/absence surveys | Capture with mist nets or harp traps, handle, identify, collect hair samples, swab, band, radio-tag, and wing-punch | Renewal.
TE 37492B-1 | Anthony Grow, Memphis, TN | Gray bat (Myotis grisescens), Indiana bat (M. sodalis), northern long-eared bat (M. septentrionalis) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys | Enter hibernacula, capture with mist nets or harp traps, handle, identify, band, and radio-tag | Renewal.
TE 37663B-1 | Rebecca Ijames, Central City, KY | Gray bat (Myotis grisescens), Indiana bat (M. sodalis), northern long-eared bat (M. septentrionalis) | Indiana, Kentucky, Missouri, Ohio, and Tennessee | Presence/absence surveys | Capture with mist nets, handle, identify, band, and radio-tag | Renewal
TE 022468-5 | Endangered Species Branch, Department of Defense, Ft. Bragg, NC | Red-cockaded woodpecker (Picoides borealis) | North Carolina | Population management and monitoring | Capture, band, construct, and monitor artificial nest cavities and restrictors, and translocate | Renewal.
TE 119937-4 | Susan Loeb, U.S. Forest Service, Clemson, SC | Gray bat (Myotis grisescens), Indiana bat (M. sodalis), northern long-eared bat (M. septentrionalis) | Alabama, Arkansas, Georgia, Kentucky, Missouri, North Carolina, Ohio, South Carolina, Tennessee, Virginia, and West Virginia | Presence/absence surveys, studies to document habitat use, and population monitoring | Enter hibernacula or maternity roost caves, salvage dead bats, capture with mist nets or harp traps, handle, identify, collect hair samples, band, radio-tag, light-tag, and wing-punch | Renewal.
TE 21809A-2 | Monica Folk, Kissimmee, FL | Red-cockaded woodpecker (Picoides borealis), Florida scrub jay (Aphelocoma coerulescens) | Alabama, Arkansas, Florida, Georgia, Louisiana, Mississippi, Missouri, North Carolina, and South Carolina | Population management and monitoring | Red-cockaded woodpecker: Capture, band, construct, and monitor artificial nest cavities and restrictors, and translocate; Florida scrub jay: Capture, band, and monitor nests | Renewal and Amendment.
TE 48049B-1 | Kathryn Cunningham, Garner, NC | Indiana bat (Myotis sodalis), northern long-eared bat (M. septentrionalis) | Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys and population monitoring | Enter hibernacula, salvage dead bats, capture with mist nets or harp traps, handle, identify, band, and radio tag | Renewal.
TE 73104C-0 | Clyde Sorenson, North Carolina State University, Raleigh, NC | Rhus michauxii (Michaux's sumac), Lysimachia asperulaefolia (rough-leaved loosestrife), Schwalbea americana (American chaffseed) | Fort Bragg and Camp Mackall, North Carolina | Pollination ecology, genetic diversity, seed set, and viability studies | Remove and reduce to possession (collect) stems, leaves, flowers, pollen, nectar, inflorescences, and seeds | New
TE 088889-3 | The Nature Conservancy, Kissimmee, FL | Red-cockaded woodpecker (Picoides borealis), Florida scrub jay (Aphelocoma coerulescens) | Disney Wilderness Preserve, Florida | Population management and monitoring | Red-cockaded woodpecker: Capture, band, construct, and monitor artificial nest cavities and restrictors, and translocate; Florida scrub jay: Capture, band, and monitor nests | Renewal.
TE 108990-4 | Ronald Spears, Littleton, CO | Gray bat (Myotis grisescens), Indiana bat (M. sodalis), northern long-eared bat (M. septentrionalis) | Alabama, Arkansas, Connecticut, Delaware, Florida, Georgia, Illinois, Indiana, Iowa, Kansas, Kentucky, Louisiana, Maine, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys | Enter hibernacula or maternity roost caves, salvage dead bats, capture with mist nets or harp traps, handle, identify, band, and radio tag | Renewal.
TE 237548-3 | Tom Counts, Tuscumbia, AL | Gray bat (Myotis grisescens), Indiana bat (M. sodalis), northern long-eared bat (M. septentrionalis) | Alabama | Presence/absence surveys, studies to document habitat use, and population monitoring | Enter hibernacula or maternity roost caves, salvage, capture with mist nets or harp traps, handle, identify, collect hair samples, band, radio-tag, light-tag, and wing-punch | Renewal.
TE 73593C-0 | Cody Parks, Rock Hill, SC | Northern long-eared bat (Myotis septentrionalis) | Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys | Capture with mist nets, handle, identify, band, and radio-tag | New.
TE 237549-2 | Cory Holliday, Gainesboro, TN | Gray bat (Myotis grisescens), Indiana bat (M. sodalis), and northern long-eared bat (M. septentrionalis) | Tennessee | Presence/absence surveys, studies to document habitat use, population monitoring, and white-nose syndrome surveillance | Enter hibernacula or maternity roost caves, salvage dead bats, capture with mist nets or harp traps, handle, identify, collect hair samples, band, radio-tag, light-tag, swab, and wing-punch | Renewal and Amendment.
TE 65550A-2 | Dale Gawlik, Florida Atlantic University, Boca Raton, FL | American wood stork (Mycteria americana) | Florida | Research on differences in nestling health and survival based upon prey selection | Capture, band, and collect feathers | Amendment.
TE 27608B-1 | McGehee Engineering Corp., Jasper, AL | Gray bat (Myotis grisescens), Indiana bat (M. sodalis), and northern long-eared bat (M. septentrionalis) | Alabama | Presence/absence surveys and population monitoring | Enter hibernacula, capture with mist nets or harp traps, handle, identify, band, and radio-tag | Renewal.

Authority: We provide this notice under section 10(c) of the ESA.

Todd Hopkins,
Acting Assistant Regional Director, Ecological Services, Southeast Region.

[FR Doc. 2018-07434 Filed 4-10-18; 8:45 am]

BILLING CODE 4333-15-P